DEPARTMENT OF HEALTH AND HUMAN SERVICES

Administration for Children and Families

Submission for OMB Review; Comment Request

Title: Computerized Support Enforcement Systems.

OMB No.: 0980-0271.

The information being collected is mandated by Section 454(16) which provides for the establishment and operation by the State agency, in accordance with an initial and annually updated advance planning document approved under section 452(d) of this state, of a statewide system meeting the requirements of section 454A. In addition, 454A(e)(1) requires that States create a State Case Registry (SCR) within their statewide automated child support systems, to include information on IV-D cases and non-IV-D orders established or modified in the State on or after October 1, 1998. Section 454A(e)(5) requires States to regularly update their cases in the SCR.

The data being collected for the Advance Planning Document is a combination of narrative, budget and schedules which are used to provide funding approvals on an annual basis and to monitor and oversee system development.

The data being collected for the State Case Registry is used to transmit mandatory data elements to the Federal Case Registry where it is used for matching against other data bases for the purposes of location of individuals, assets, employment and other child support related activities.

Respondents: The respondents are 54 State and Territorial Child Support Agencies.

Annual Burden Estimates:

Instrument | Number of respondents | Number of responses per respondent | Average burden hours per response | Total burden hours
307.15 (APD) | 2 | 1 | 240 | 480
307.15 (APDU) | 54 | 1 | 60 | 3240
307.11(e)(1)(ii), Collection of non-IV-D data for SCR States | 54 | 25,200 | .046 | 62,597
307.11(e)(1)(ii), Collection of non-IV-D data for SCR-courts | 3,045 | 447 | .029 | 39,472
307.11(e)(3)(v), Collection of Child Data for IV-D cases for SCR-courts | 3,045 | 213 | .083 | 53,833
307.11(f)(1), Case Data Transmitted from SCR to FCR: New cases and case updates | 54 | 46,379 | 2.82 | 130,788
Total |  |  |  | 290,410

Additional Information: Copies of the proposed collection may be obtained by writing to The Administration for Children and Families, Office of Information Services, 370 L'Enfante Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: August 6, 2001.
Bob Sargis,
Reports Clearance Officer.

[FR Doc. 01-19998 Filed 8-8-01; 8:45 am]

BILLING CODE 4184-01-M